OFFICE OF PERSONNEL MANAGEMENT

5 CFR Part 950

RIN 3206-AM68

Solicitation of Federal Civilian and Uniformed Service Personnel for Contributions to Private Voluntary Organizations; Delay of Effective Date and Addition of Comment Period

AGENCY: Office of Personnel Management.

ACTION: Proposed rule with request for comments.

SUMMARY: The U.S. Office of Personnel Management (OPM) is issuing a proposed rule to delay the effective date that appeared in the final rule published in the Federal Register on April 17, 2014 titled “Solicitation of Federal Civilian and Uniformed Service Personnel for Contributions to Private Voluntary Organizations” to January 1, 2017. OPM is requesting comments on the proposed rule.

DATES: OPM must receive comments on or before September 16, 2015.

ADDRESSES: You may submit comments, identified by RIN number “3206-AM68”, using the Federal eRulemaking Portal: www.regulations.gov. Follow the instructions for submitting comments.

FOR FURTHER INFORMATION CONTACT: Mary Capule by telephone at (202) 606-2564; by FAX at (202) 606-5056; or by email at cfc@opm.gov.

SUPPLEMENTARY INFORMATION: OPM proposes to delay the effective date of the final rule entitled “Solicitation of Federal Civilian and Uniformed Service Personnel for Contributions to Private Voluntary Organizations” (FR Doc. 2014-08574, in the Federal Register of April 17, 2014 (79 FR 21581)), to January 1, 2017. The new effective date for the CFC regulations would ensure that the tools needed to put these reforms in place—including the pivotal online charity application and donor pledging systems—are thoroughly tested and fully operational before being made available to charities and donors.

U.S. Office of Personnel Management.
Beth F. Cobert,
Acting Director.

[FR Doc. 2015-20238 Filed 8-14-15; 8:45 am]

BILLING CODE 6325-58-P